DEPARTMENT OF ENERGY

Federal Energy Regulatory Commission

Sunshine Act Meeting

June 11, 2001.

The following notice of meeting is published pursuant to section 3(a) of the Government in the Sunshine Act (Pub. L. No. 94-409), 5 U.S.C. 552B:

AGENCY HOLDING MEETING: Federal Energy Regulatory Commission.

DATE AND TIME: June 18, 2001, 1 p.m.

Room 2C, 888 First Street, NE., Washington, DC 20426.

STATUS: Open.

MATTERS TO BE CONSIDERED: Docket No. EL00-95-031, San Diego Gas Electric Company V. Sellers of Energy and Ancillary Service into Markets Operated by the California Independent System Operator and the California Power Exchange.

Docket No. EL00-98-030, Investigation of Practices of the California Independent System Operator Corporation and the California Power Exchange.

Docket No. RT01-85-001, California Independent System Operator Corporation.

Docket Nos. EL01-68-000 and 001, Investigation of Wholesale Rates of Public Utility Sellers of Energy and Ancillary Services in the Western Systems Coordinating Council.

CONTACT PERSON FOR MORE INFORMATION: David P. Boergers, Secretary, Telephone (202) 208-0400.

David P. Boregers,
Secretary.

[FR Doc. 01-15132 Filed 6-12-01; 11:38 am]

BILLING CODE 6717-01-P